DEPARTMENT OF COMMERCE

National Institute of Standards and Technology

[Docket No. 080508641-8643-01]

Request for Technical Input—Standards in Trade Workshops

AGENCY: National Institute of Standards and Technology, Commerce.

ACTION: Request for Workshop Recommendations.

SUMMARY: The National Institute of Standards and Technology (NIST) invites interested parties to submit recommendations for workshops covering specific sectors and targeted countries or regions of the world where training in the U.S. system of standards development, conformity assessment, and metrology may facilitate trade. Prospective workshops will be scheduled for a 3 to 5 day period. This notice is not an invitation for proposals to fund grants, contracts or cooperative agreements of any kind. NIST will offer a limited number of workshops, based upon the availability of resources. Recommenders are encouraged to consider Administration priorities outlined in the 2007 National Export Strategy. NIST will consider recommendations based upon which workshops would be most useful to intended audiences.

DATES: All recommendations must be submitted no later than 5 p.m., June 23, 2008.

ADDRESSES: All recommendations must be submitted to Ellen Emard via e-mail (ellen.emard@nist.gov) or by mail to 100 Bureau Drive, Mail Stop 2100, Gaithersburg, MD, 20899. The National Export Strategy is available at http://www.ita.doc.gov/media/publications/abstract/nes2007desc.html. Additional information about the NIST Standards in Trade Workshop is available at http://ts.nist.gov/standards/global/sitdescr.cfm.

FOR FURTHER INFORMATION CONTACT: Ellen Emard (301) 975-4038, ellen.emard@nist.gov.

SUPPLEMENTARY INFORMATION: The Standards in Trade Workshops are a major activity of the Global Standards and Information Group in the NIST Standards Services

Division. The workshops are designed to provide timely information to foreign standards officials on U.S. practices in standards and conformity assessment. Participants are introduced to U.S. technology and principles in metrology, standards development and application, and conformity assessment systems and procedures. Each workshop offers an overview of the roles of the U.S. Government, private sector, and regional and international organizations engaged in standards development and conformity assessment practices. Specific workshop objectives are to: (1) Familiarize participants with U.S. technology and practices in metrology, standardization, and conformity assessment; (2) describe and provide an understanding of the roles of the U.S. Government and the private sector in developing and implementing standards; (3) convey the structure of the standards and conformity assessment systems in the invited country or countries and the role and responsibilities of organizations represented by the invitees; and (4) facilitate professional contacts as a basis for strengthening technical ties and enhancing trade.

Workshop recommendations (maximum 5 pages) must address at a minimum the following points, in the order noted and labeled accordingly:

1. Name and Description of the Recommending Person or Organization

Provide the primary mailing address, and the name, telephone number and email address of the primary point of contact.

2. Industry Sector and Suggested Workshop Title which captures the essence of the recommendation

Provide a title that considers the goals and potential benefits of the workshop.

3. Proposed Workshop Objectives

Describe the intended goals to be attained, why they are important, the specific workshop objectives, and U.S. and foreign stakeholders that are likely to participate.

4. Calendar Dates Suggested for Workshop

Provide three or more suggested start dates for the workshop. The first date should be no earlier than 8 months from the publication date of this announcement.

5. Relevant NIST Organizational Link

Workshop topics must be linked to NIST activities and/or research. The appropriate NIST organizational unit, laboratory or program must be identified by the recommender and the relevance of the activity to NIST must be demonstrated. If known, identify the specific NIST staff who could serve as the NIST internal point of contact.

6. Principal Topics

Provide a list of the suggested topics for the workshop.

7. Related Site Visits and Events

Workshops can include visits to relevant business sites or events. Provide a list of suggested site visit locations, events or other areas of interest and discuss the relevance of each to the overall purpose of the proposed workshop's goals.

8. Expected Outcomes/Measures of Success

Include in this section a description of:

a. The anticipated benefit of the workshop for trade and market access;

b. The anticipated economic impacts (in dollars);

c. The potential for future opportunities for collaboration and trade as a result of the workshop;

d. The measures of success; and

e. The desired results of the workshop and how the results will be measured.

All recommendations must address each of the above eight points and be submitted to Ellen Emard via e-mail (ellen.emard@nist.gov) or mail 100 Bureau Drive, Mail Stop 2100 Gaithersburg, MD 20899 no later than 5 p.m., June 23, 2008.

Dated: May 16, 2008.
Richard F. Kayser,
Chief Scientist.

[FR Doc. E8-11627 Filed 5-22-08; 8:45 am]

BILLING CODE 3510-13-P